DEPARTMENT OF LABOR

Employment and Training Administration

[TA-W-73,071]

ArvinMeritor, Incorporated, Currently Known as Camryn Industries LLC, Including On-Site Leased Workers From QPS Companies, Belvidere, IL; Amended Certification Regarding Eligibility To Apply for Worker Adjustment Assistance

In accordance with Section 223 of the Trade Act of 1974, as amended (“Act”), 19 U.S.C. 2273, the Department of Labor issued a Certification of Eligibility to Apply for Worker Adjustment Assistance on June 23, 2010, applicable to workers and former workers of ArvinMeritor, Incorporated, including on-site leased workers from QPS Companies, Belvidere, Illinois (subject firm). The Department's Notice of determination was published in the Federal Register on July 7, 2010 (75 FR 39047).

At the request of the State agency, the Department reviewed the certification for workers of the subject firm. The workers are engaged in activities related to the production of automotive chassis and modules.

New information shows that ArvinMeritor, Incorporated was purchased by Camryn Industries LLC in August 2010 and is currently known as Camryn Industries LLC. Workers separated from employment at the subject firm may have had their wages reported under a separate unemployment insurance (UI) tax account under the name Camryn Industries LLC.

Accordingly, the Department is amending this certification to show a change in ownership of the subject firm.

The intent of the Department's certification is to include all workers of the subject firm who were adversely affected as a secondary component supplier of automotive chassis and modules to a firm covered by an active TAA certification.

The amended notice applicable to TA-W-73,071 is hereby issued as follows:

All workers of ArvinMeritor, Incorporated, currently known as Camryn Industries LLC, including on-site leased workers from QPS Companies, Belvidere, Illinois, who became totally or partially separated from employment on or after December 9, 2008, through June 23, 2012, and all workers in the group threatened with total or partial separation from employment on date of certification through two years from the date of certification, are eligible to apply for adjustment assistance under Chapter 2 of Title II of the Trade Act of 1974, as amended.

Signed at Washington, DC, this 17th day of September, 2010.
Del Min Amy Chen,
Certifying Officer, Office of Trade Adjustment Assistance.

[FR Doc. 2010-24379 Filed 9-28-10; 8:45 am]

BILLING CODE 4510-FN-P